ENVIRONMENTAL PROTECTION AGENCY

40 CFR Part 63

[AD-FRL-6997-8]

RIN 2060-AI34

National Emission Standards for Hazardous Air Pollutants for Chemical Recovery Combustion Sources at Kraft, Soda, Sulfite, and Stand-Alone Semichemical Pulp Mills

AGENCY: Environmental Protection Agency (EPA).

ACTION: Final rule; technical corrections.

SUMMARY: Under the Clean Air Act (CAA), EPA promulgated the national emission standards for hazardous air pollutants (NESHAP) for chemical recovery combustion sources at kraft, soda, sulfite, and stand-alone semichemical pulp mills on January 12, 2001. The promulgated rule requires new and existing major sources to control emissions of hazardous air pollutants (HAP) to the level reflecting application of the maximum achievable control technology. The technical corrections in this action will not change the standards established by the rule or the level of health protection it provides.

Section 553 of the Administrative Procedure Act, 5 U.S.C. 553(b)(B), provides that, when an agency for good cause finds that notice and public procedure are impracticable, unnecessary, or contrary to the public interest, the agency may issue a rule without providing notice and an opportunity for public comment. We have determined that there is good cause for making today's rule final without prior proposal and opportunity for comment because the changes to the rule are minor technical corrections consisting largely of correcting typographical errors and other misprints and correcting minor errors in the rule's effective dates, are noncontroversial, and do not substantively change the requirements of the rule. In addition, there has already been full opportunity to comment on all of the provisions in this Notice. Thus, notice and public procedure are unnecessary. We find that this constitutes good cause under 5 U.S.C. 553(b)(B) (see also the final sentence of section 307(d)(1) of the Clean Air Act, 42 U.S.C. section 7607(d)(1), indicating that the good cause provisions of the Administrative Procedure Act continue to apply to this type of rulemaking under the Clean Air Act).

Section 553(d)(3) allows an agency, upon a finding of good cause, to make a rule effective immediately. Because today's changes do not substantively change the requirements of the rule, we find good cause to make these technical corrections effective immediately.

EFFECTIVE DATE: July 19, 2001.

ADDRESSES: Docket No. A-94-67 contains the supporting information for the original NESHAP for chemical recovery combustion sources at kraft, soda, sulfite, and stand-alone semichemical mills and this action. The docket is located at the U.S. EPA in room M-1500, Waterside Mall (ground floor), 401 M Street SW., Washington, DC 20460, and may be inspected from 8 a.m. to 5:30 p.m., Monday through Friday, excluding legal holidays. A reasonable fee may be charged for copying.

FOR FURTHER INFORMATION CONTACT: Mr. Jeff Telander, Minerals and Inorganic Chemicals Group, Emission Standards Division (MD-13), Office of Air Quality Planning and Standards, U.S. EPA, Research Triangle Park, North Carolina 27711, telephone number (919) 541-5427, facsimile number (919) 541-5600, electronic mail address telander.jeff@epa.gov.

SUPPLEMENTARY INFORMATION: Regulated Entities. Categories and entities potentially regulated by this action are those kraft, soda, sulfite, and stand-alone semichemical pulp mills with chemical recovery processes that involve the combustion of spent pulping liquor. Categories and entities potentially regulated by this action include:

Category | SIC code | NAICS code | Examples of regulated entities
Industry | 2611, 2621, 2631 | 32211, 32212, 32213 | Kraft, soda, sulfite, and stand-alone semichemical pulp mills.

This table is not intended to be exhaustive, but rather provides a guide for readers regarding entities likely to be regulated by this action. This table lists the types of entities that EPA is now aware could potentially be regulated by this action.

To determine whether your facility is regulated by this action, you should carefully examine the applicability criteria in § 63.860 of the final rule. If you have questions regarding the applicability of this action to a particular entity, consult the person listed in the preceding FOR FURTHER INFORMATION CONTACT section of this document.

World Wide Web (WWW). In addition to being available in the docket, an electronic copy of today's document will also be available on the WWW through the Technology Transfer Network (TTN). Following the signature, a copy of this action will be posted on the TTN's policy and guidance page for newly proposed or final rules at http://www.epa.gov/ttn/oarpg/t3pfpr.html. The TTN provides information and technology exchange in various areas of air pollution control. If more information regarding the TTN is needed, call the TTN HELP line at (919) 541-5384.

I. Background

The EPA, under 40 CFR part 63, subpart MM, promulgated the NESHAP for chemical recovery combustion sources at kraft, soda, sulfite, and stand-alone semichemical pulp mills on January 12, 2001 (66 FR 3180). The final rule includes emissions limits, as well as monitoring, performance testing, recordkeeping, and reporting requirements.

II. Summary of Corrections

Today's changes are described below for the convenience of the reader.

Citation | Change
§ 63.863(a) | Change the compliance date for existing affected sources to March 13, 2004.
§ 63.863(b) | Change the startup date, after which new affected sources must comply immediately upon startup, to March 13, 2001.
§ 63.865(a) | Reduce the number of referenced paragraphs from “(a)(1) through (4)” to “(a)(1) and (2)” to reflect the elimination of paragraphs (a)(3) and (4).
§ 63.865(a)(3), (a)(4), (b)(5), and (b)(6) | Remove paragraphs (a)(3) and (4) from § 63.865(a) and revise and redesignate them as new paragraphs § 63.865(b)(5) and (6) so that these requirements will no longer be limited under § 63.865(a) to existing sources using the PM bubble compliance alternative.
§ 63.865(b) | Change the reference from “63.862(a)” to “§ 63.862(a) or (b)” so as to include the new source standards under § 63.862(b). Also, increase the number of referenced paragraphs from “(b)(1) through (4)” to “(b)(1) through (6)” to reflect the addition of paragraphs (b)(5) and (6).
§ 63.865(b)(2) | Change the reference from “paragraph (a)(1) or (2) of § 63.862” to “paragraph (a) or (b) of § 63.862” so as to include the new source standards under § 63.862(b).
§ 63.865(b)(4) | Revise Equation 8 so that the numerator and denominator of the oxygen correction factor are reversed to yield: Qcorr = Qmeas × (21−Y)/(21×X). Also, reorder the definition of terms for Equation 8 to place “Y” before “X.”
§ 63.865(c) | Add a reference to Methods 1 through 4 to the reference to Method 308 because those four test methods are also needed. Because Methods 1 through 4 are also being referenced, clarify that the sampling time and sample volume apply to each Method 308 run.
§ 63.865(d) | Add a reference to Methods 1 through 4 to the reference to Method 25A because those four test methods are also needed. Because Methods 1 through 4 are also being referenced, clarify that the sampling time and sample volume apply to each Method 25A run.

III. Administrative Requirements

Under Executive Order 12866 (58 FR 51736, October 4, 1993), this action is not a “significant regulatory action” and is, therefore, not subject to review by the Office of Management and Budget (OMB). Because EPA has made a “good cause” finding that this action is not subject to notice and comment requirements under the Administrative Procedure Act or any other statute, it is not subject to the regulatory flexibility provisions of the Regulatory Flexibility Act (5 U.S.C. 601 et seq.), or to sections 202 and 205 of the Unfunded Mandates Reform Act of 1995 (UMRA) (Public Law 104-4). In addition, this action does not significantly or uniquely affect small governments or impose a significant intergovernmental mandate, as described in sections 203 and 204 of the UMRA. This action also does not significantly or uniquely affect the communities of tribal governments, as specified by Executive Order 13175 (63 FR 67249, November 6, 2000). This action does not have substantial direct effects on the States, on the relationship between the national government and the States, or on the distribution of power and responsibilities among the various levels of government, as specified in Executive Order 13132 (64 FR 43255, August 10, 1999). This action also is not subject to Executive Order 13045 (62 FR 19885, April 23, 1997) because it is not economically significant.

Section 12(d) of the National Technology Transfer and Advancement Act (NTTAA) of 1995 (Pub. L. 104-113; 15 U.S.C. 272 note) directs EPA to use voluntary consensus standards in its regulatory and procurement activities unless to do so would be inconsistent with applicable law or otherwise impractical. The EPA is not proposing/adopting any voluntary consensus standards in this action.

This technical correction action does not involve special consideration of environmental justice related issues as required by Executive Order 12898 (59 FR 7629, February 16, 1994). In issuing these technical corrections, EPA has taken the necessary steps to eliminate drafting errors and ambiguity, minimize potential litigation, and provide a clear legal standard for affected conduct, as required by section 3 of Executive Order 12988 (61 FR 4729, February 7, 1996). The EPA has complied with Executive Order 12630 (53 FR 8859, March 15, 1988) by examining the takings implications of these technical corrections in accordance with the “Attorney General's Supplemental Guidelines for the Evaluation of Risk and Avoidance of Unanticipated Takings' issued under the Executive Order. These technical corrections do not impose an information collection burden under the provisions of the Paperwork Reduction Act of 1995 (44 U.S.C. 3501 et seq.). The EPA's compliance with these statutes and Executive Orders for the underlying rule is discussed in the NESHAP for chemical recovery combustion sources at kraft, soda, sulfite, and stand-alone semichemical pulp mills.

The Congressional Review Act (5 U.S.C. 801 et seq.), as added by the Small Business Regulatory Enforcement Fairness Act of 1996, generally provides that, before a rule may take effect, the agency promulgating the rule must submit a rule report, which includes a copy of the rule, to each House of the Congress and to the Comptroller General of the United States. Section 808 allows the issuing agency to make a rule effective sooner than otherwise provided by the Congressional Review Act if the agency makes a good cause finding that notice and public procedure is impracticable, unnecessary, or contrary to the public interest. This determination must be supported by a brief statement (5 U.S.C. 808(2)). As stated previously, EPA has made such a good cause finding, including the reasons therefor, and established an effective date of July 19, 2001. The EPA will submit a report containing this rule and other required information to the U.S. Senate, the U.S. House of Representatives, and the Comptroller General of the United States prior to publication of the rule in the Federal Register. This action is not a “major rule” as defined by 5 U.S.C. 804(2).

List of Subjects in 40 CFR Part 63

Environmental protection, Air pollution control, Hazardous substances, Pulp and paper mills.

Dated: June 8, 2001.
Robert D. Brenner,
Acting Assistant Administrator for Air and Radiation.

For the reasons set out in the preamble, title 40, chapter I, part 63 of the Code of Federal Regulations is amended as follows:

PART 63—[AMENDED]

1. The authority citation for part 63 continues to read as follows:

Authority: 42 U.S.C. 7401 et seq.

Subpart MM—National Emission Standards for Hazardous Air Pollutants for Chemical Recovery Combustion Sources at Kraft, Soda, Sulfite, and Stand-Alone Semichemical Pulp Mills

2. Section 63.863 is amended by revising paragraph (a) and (b) to read as follows:

§ 63.863 Compliance dates.

(a) The owner or operator of an existing affected source or process unit must comply with the requirements in this subpart no later than March 13, 2004.

(b) The owner or operator of a new affected source that has an initial startup date after March 13, 2001 must comply with the requirements in this subpart immediately upon startup of the affected source, except as specified in § 63.6(b).

* * * * *

3. Section 63.865 is amended by:

a. Revising paragraph (a) introductory text;

b. Removing paragraphs (a)(3) and (4);

c. Revising paragraphs (b) introductory text, (b)(2), and (b)(4);

d. Adding paragraphs (b)(5) and (6);

e. Revising paragraph (c) introductory text; and

f. Revising paragraph (d) introductory text.

The revisions and additions read as follows:

§ 63.865 Performance test requirements and test methods.

(a) The owner or operator of a process unit seeking to comply with a PM emission limit under § 63.862(a)(1)(ii)(A) must use the procedures in paragraphs (a)(1) and (2) of this section:

* * * * *

(b) The owner or operator seeking to determine compliance with § 63.862(a) or (b) must use the procedures in paragraphs (b)(1) through (6) of this section.

* * * * *

(2) For sources complying with paragraph (a) or (b) of § 63.862, the PM concentration must be corrected to the appropriate oxygen concentration using Equation 7 of this section as follows:

Ccorr = Cmeas x (21 − X)/(21 − Y) (Eq. 7)

Where:

Ccorr = the measured concentration corrected for oxygen, g/dscm (gr/dscf).

Cmeas = the measured concentration uncorrected for oxygen, g/dscm (gr/dscf).

X = the corrected volumetric oxygen concentration (8 percent for kraft or soda recovery furnaces and sulfite combustion units and 10 percent for kraft or soda lime kilns).

Y = the measured average volumetric oxygen concentration.

* * * * *

(4) For purposes of complying with of § 63.862(a)(1)(ii)(A), the volumetric gas flow rate must be corrected to the appropriate oxygen concentration using Equation 8 of this section as follows:

Qcorr = Qmeas x (21 − Y)/(21 − X) (Eq. 8)

Where:

Qcorr = the measured volumetric gas flow rate corrected for oxygen, dscm/min (dscf/min).

Qmeas = the measured volumetric gas flow rate uncorrected for oxygen, dscm/min (dscf/min).

Y = the measured average volumetric oxygen concentration.

X = the corrected volumetric oxygen concentration (8 percent for kraft or soda recovery furnaces and 10 percent for kraft or soda lime kilns).

(5) For purposes of selecting sampling port location and number of traverse points, determining stack gas velocity and volumetric flow rate, conducting gas analysis, and determining moisture content of stack gas, Methods 1 through 4 in appendix A of 40 CFR part 60 must be used.

(6) Process data measured during the performance test must be used to determine the black liquor solids firing rate on a dry basis and the CaO production rate.

(c) The owner or operator seeking to determine compliance with the gaseous organic HAP standard in § 63.862(c)(1) without using an NDCE recovery furnace equipped with a dry ESP system must use Method 308 in appendix A of this part, as well as Methods 1 through 4 in appendix A of part 60 of this chapter. The sampling time and sample volume for each Method 308 run must be at least 60 minutes and 0.014 dscm (0.50 dscf), respectively.

* * * * *

(d) The owner or operator seeking to determine compliance with the gaseous organic HAP standards in § 63.862(c)(2) for semichemical combustion units must use Method 25A, as well as Methods 1 through 4, in appendix A of part 60 of this chapter. The sampling time for each Method 25A run must be at least 60 minutes.

* * * * *

[FR Doc. 01-17559 Filed 7-18-01; 8:45 am]

BILLING CODE 6560-50-P